DEPARTMENT OF AGRICULTURE

Forest Service

Revision of the Land Management Plan for the Colville National Forest

AGENCY: Forest Service, USDA.

ACTION: Notice of Approval of the Revised Land Management Plan for the Colville National Forest.

SUMMARY: Glenn Casamassa, Regional Forester, Pacific Northwest Region, has signed the final Record of Decision (ROD) for the revised Colville National Forest Land Management Plan (revised land management plan). The final ROD documents the rationale for approving the revised land management plan and is consistent with the Reviewing Officer's instructions on objections.

DATES: The revised land management plan for the Colville National Forest will become effective 30 days after the publication of this notice of approval in the Federal Register (36 CFR 219.17(a)(1)). To view the final ROD, final environmental impact statement (FEIS), the revised land management plan, and other related documents, please visit the Colville National Forest website at: https://www.fs.usda.gov/detail/colville/landmanagement/planning/?cid=stelprd3824594.

A legal notice of approval is also being published in the Pacific Northwest Regional Office's newspaper of record, The Seattle Times. A copy of this legal notice will be posted on the Colville National Forest's website described above.

FOR FURTHER INFORMATION CONTACT: Further information about the revised land management plan for the Colville National Forest may be obtained by contacting Lisa Larsen, Forest Environmental Coordinator, Colville National Forest, at 509-775-7454. Individuals who use telecommunication devices for the deaf (TDD) may call the Federal Information Relay Service (FIRS) at 1-800-877-8339 between 8:00 a.m. and 8:00 p.m., Eastern time, Monday through Friday. Written requests for information may be sent to Colville National Forest, Attn: Colville National Forest Plan Revision, 765 South Main, Colville, WA 99114.

SUPPLEMENTARY INFORMATION: The Colville National Forest covers 1.1 million acres across three counties in northeast Washington, contributing jobs and income for the local population. The revised land management plan, which was developed pursuant to the 1982 Planning Rule, will replace the land management plan approved in 1988. The revised land management plan provides for:

• Increased timber harvest to support the robust forest products industry and local communities while sustaining and restoring important ecosystems;

• A framework to promote partnerships and cooperative agreements to get more work accomplished on the ground; and

• A community-based approach to managing livestock grazing, recommending new wilderness areas, and providing access to forest resources.

A draft ROD, revised land management plan, and FEIS were released in September 2018, and were subject to a pre-decisional objection period. Twenty eligible objections were received. The primary objection issues were the:

• Amount, location, and management of recommended wilderness. Most objectors requested that the acres of recommended wilderness be reduced, while others requested the recommendation of additional acres;

• Potential of plan components related to aquatic ecosystems and wildlife to affect livestock grazing, and the number of acres of capable and suitable lands for livestock grazing;

• Importance of timber harvest, grazing, and mining to the local communities; and

• Inadequacy of the Wild and Scenic Rivers eligibility review.

The Responsible Official has completed review of the Reviewing Officer's instructions regarding objections, and has worked with the Colville National Forest in preparing the final planning documents for publication. The final ROD to approve the revised land management plan for the Colville National Forest has now been signed by the Responsible Official, and is available at: https://www.fs.usda.gov/detail/colville/landmanagement/planning/?cid=stelprd3824594.

Responsible Official

The responsible official for the revision of the land management plan for the Colville National Forest is Glenn Casamassa, Regional Forester, Pacific Northwest Region, 1220 SE 3rd Ave., Portland, OR 97204.

Dated: October 15, 2019.
Allen Rowley,
Associate Deputy Chief, National Forest System.

[FR Doc. 2019-22924 Filed 10-21-19; 8:45 am]

BILLING CODE 3411-15-P